DEPARTMENT OF HEALTH AND HUMAN SERVICES

Health Resources and Services Administration

Agency Information Collection Activities: Submission to OMB for Review and Approval; Public Comment Request; Information Collection Request Title: Client-Level Data Reporting System, OMB No. 0915-0323—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than July 7, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Client-Level Data Reporting System OMB No. 0915-0323—Revision.

Abstract: The Ryan White HIV/AIDS Program's (RWHAP) client-level data reporting system, entitled the RWHAP Services Report or the Ryan White Services Report (RSR), is designed to collect information from grant recipients, as well as their subcontracted service providers, funded under Parts A, B, C, and D of RWHAP statute. RWHAP, authorized under Title XXVI of the Public Health Service Act, as amended by the Ryan White HIV/AIDS Treatment Extension Act of 2009, awards funding to recipients to provide efficient and effective health care and support services, with an emphasis on providing life-saving and life-extending services for people living with HIV across the country. HRSA is streamlining the data collection forms by making the following changes:

Within Client Demographics:

• Deletion of variable ID 8, “Self-Reported Transgender Status”.

• Addition of “Transgender Male to Female”, “Transgender Female to Male”, and “Transgender Other” as response options for variable ID 7, “Self-Reported Gender”.

Within Services:

• Deletion of “Parts A and B” from the “Early Intervention Services” response option for variable ID 19, “Core Medical Services Delivered”. Deletion of “Legal Services” and “Permanency Planning”, and the additional of “Other Professional Services” response options for variable ID 35, “Support Services”.

Within Clinical Information:

• Variable ID 47, “Date of First HIV Outpatient/Ambulatory Health Care Visit” will be renamed “Date of First HIV Outpatient/Ambulatory Health Services Visit”.

• Variable ID 48, “Dates of All Outpatient Ambulatory Health Care Visits” will be renamed “Dates of All Outpatient/Ambulatory Health Services Visits”.

• Variable ID 74, “OAMC Link Date” will be renamed “OAHS Link Date”.

Need and Proposed Use of the Information: RWHAP's statute specifies HRSA's responsibility to administer grant funds, allocate funds, evaluate programs for the populations served, and improve efficiency and effectiveness through quality HIV care and treatment for patients. Accurate records of the providers receiving Ryan White HIV/AIDS Program funding, the clients served, and services provided continue to be critical for the implementation of the statute.

The RSR provides data on the characteristics of RWHAP-funded grant recipients, their contracted service providers, and the clients served. The RSR is intended to support clinical quality management, performance measurement, service delivery, and client monitoring at the systems and client levels. The reporting system consists of two online data forms, the Recipient Report and the Service Provider Report, as well as a data file containing the client-level data elements. Data are submitted annually. The statute specifies the importance of grant recipient accountability and linking performance to the budget. The RSR is used to ensure compliance with the statute, evaluate the progress of programs, monitor grant recipient and provider performance, and inform annual reports to Congress.

Information collected through the RSR is critical for HRSA, state, city, and local grant recipients, and individual providers to assess the status of existing HIV-related service delivery systems, investigate trends in service utilization, and health outcomes. Minor revisions to the RSR are being made to streamline data collection and reduce reporting burden.

The removal of variable ID 8, “Self-Reported Transgender Status”, will streamline reporting of client demographic data. With the additional response options for variable ID 7, “Self-Reported Gender”—“Transgender Male to Female”, “Transgender Female to Male”, and “Transgender Other”, HRSA will improve the overall quality of demographic data that are reported, which is essential for program monitoring. The additions and deletions of response options for variable IDs 19 and 35, as well as the renaming of variable IDs 47, 48, and 74, will allow HRSA to align its data collection efforts with recent program policy notices (e.g. Policy Clarification Notice 16-02, Ryan White HIV/AIDS Program Services: Eligible Individuals and Allowable Uses of Funds) that incorporate both HHS regulations and program specific requirements set forth in the RWHAP statute.

Likely Respondents: Ryan White HIV/AIDS Program Part A, Part B, Part C, and Part D recipients and their contracted service providers.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information.

The total burden for this revised form has decreased by 6,416 hours due to the deletion of several data elements and an estimated decrease in the number of respondents. The total annual burden hours estimated for this ICR are summarized in the table below.

Total Estimated Annualized Burden—Hours
Form name | Number of respondents | Number of responses per respondent | Total responses | Average burden per response (in hours) | Total burden hours
Grantee Report | 595 | 1 | 595 | 7 | 4,165
Provider Report | 1793 | 1 | 1793 | 17 | 30,481
Client Report | 1312 | 1 | 1312 | 67 | 87,904
Total | 3700 |  | 3700 |  | 122,550

Jason E. Bennett,
Director, Division of the Executive Secretariat.

[FR Doc. 2017-11716 Filed 6-6-17; 8:45 am]

BILLING CODE 4165-15-P